DEPARTMENT OF TRANSPORTATION

Federal Aviation Administration

14 CFR Part 39

[Docket No. 2002-NM-198-AD]

RIN 2120-AA64

Airworthiness Directives; Boeing Model 767-200, -300, and -300F Series Airplanes

AGENCY: Federal Aviation Administration, DOT.

ACTION: Notice of proposed rulemaking (NPRM).

SUMMARY: This document proposes the adoption of a new airworthiness directive (AD) that is applicable to certain Boeing Model 767-200, -300, and -300F series airplanes. This proposal would require performing, for both main landing gear (MLG), gap measurements of the upper and lower joint gaps; an ultrasonic inspection of the outer cylinder of the MLG for cracks between the downlock fitting attach lugs; and follow-on and corrective actions if necessary. This action is necessary to detect and correct cracks in the outer cylinder of the MLG, which could result in collapsed MLG and consequent reduced controllability of the airplane during takeoff and landing. This action is intended to address the identified unsafe condition.

DATES: Comments must be received by January 20, 2004.

ADDRESSES: Submit comments in triplicate to the Federal Aviation Administration (FAA), Transport Airplane Directorate, ANM-114, Attention: Rules Docket No. 2002-NM-198-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-198-AD” in the subject line and need not be submitted in triplicate. Comments sent via the Internet as attached electronic files must be formatted in Microsoft Word 97 or 2000 or ASCII text.

The service information referenced in the proposed rule may be obtained from Boeing Commercial Airplane Group, P.O. Box 3707, Seattle, Washington 98124-2207. This information may be examined at the FAA, Transport Airplane Directorate, 1601 Lind Avenue, SW., Renton, Washington.

FOR FURTHER INFORMATION CONTACT: Suzanne Masterson, Aerospace Engineer, Airframe Branch, ANM-120S, FAA, Seattle Aircraft Certification Office, 1601 Lind Avenue, SW., Renton, Washington 98055-4056; telephone (425) 917-6441; fax (425) 917-6590.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-198-AD.” The postcard will be date stamped and returned to the commenter.

Availability of NPRMs

Any person may obtain a copy of this NPRM by submitting a request to the FAA, Transport Airplane Directorate, ANM-114, Attention: Rules Docket No. 2002-NM-198-AD, 1601 Lind Avenue, SW., Renton, Washington 98055-4056.

Discussion

The FAA has received a report indicating that a crack was found on the outer cylinder of the main landing gear (MLG) at the attach lugs for the drag strut downlock fitting on a Model 767-300 series airplane. The cause of the crack was due to heat damage from the upper bearing rubbing on the cylinder. Excessive torque on the downlock fitting attachment fasteners during production of Model 767-300 series airplanes produced local deflection of the outer cylinder, causing contact or interference with the upper bearing. This condition, if not corrected, could result in cracks in the outer cylinder of the MLG, which could result in collapsed MLG and consequent reduced controllability of the airplane during takeoff and landing.

Similar Models

The subject area on certain Boeing Model 767-200 and -300F series airplanes is almost identical to that on the affected Boeing Model 767-300 series airplanes. Therefore, all of these models may be subject to the same unsafe condition.

Explanation of Relevant Service Information

The FAA has reviewed and approved Boeing Service Bulletin 767-32A0196, Revision 2, dated May 15, 2003, which describes procedures, for both MLG, for performing gap measurements of the upper and lower joint gaps (includes measuring and recording upper and lower joint gaps twice); an ultrasonic inspection of the outer cylinder of the MLG for cracks between the downlock fitting attach lugs; and follow-on and corrective actions if necessary. The follow-on action includes restoring the MLG (includes installing shims as applicable, electrical bracket, and cotter pins; and marking the MLG). The corrective actions include overhauling the outer cylinder of the MLG; replacing the outer cylinder of the MLG with an interchangeable outer cylinder, and contacting the manufacturer if there is any crack in the outer cylinder that cannot be removed within the repair limits. Accomplishment of the actions specified in the service bulletin is intended to adequately address the identified unsafe condition.

Explanation of Requirements of Proposed Rule

Since an unsafe condition has been identified that is likely to exist or develop on other products of this same type design, the proposed AD would require accomplishment of the actions specified in the service bulletin described previously, except as discussed below.

Difference Between Proposed Rule and Service Bulletin

Operators should note that, although the service bulletin specifies that the manufacturer may be contacted for disposition of certain repair conditions, this proposal would require the repair to be accomplished per a method approved by the FAA, or per data meeting the type certification basis of the airplane approved by a Boeing Company Designated Engineering Representative who has been authorized by the FAA to make such findings.

Cost Impact

There are approximately 833 airplanes of the affected design in the worldwide fleet. The FAA estimates that 353 airplanes of U.S. registry would be affected by this proposed AD, that it would take approximately 16 work hours per airplane to accomplish the proposed gap measurement and inspection, and that the average labor rate is $65 per work hour. Based on these figures, the cost impact of the proposed AD on U.S. operators is estimated to be $367,120, or $1,040 per airplane.

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions. Manufacturer warranty remedies may be available for labor costs associated with this proposed AD. As a result, the costs attributable to the proposed AD may be less than stated above.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Boeing: Docket 2002-NM-198-AD.

Applicability: Model 767-200, -300, and -300F series airplanes, line numbers 1 through 883 inclusive; certificated in any category.

Compliance: Required as indicated, unless accomplished previously.

To detect and correct cracks in the outer cylinder of the main landing gear (MLG), which could result in collapsed MLG and consequent reduced controllability of the airplane during takeoff and landing, accomplish the following:

Service Bulletin References

(a) The term “service bulletin,” as used in this AD, means the Accomplishment Instructions of Boeing Service Bulletin 767-32A0196, Revision 2, dated May 15, 2003.

Inspection and Corrective Actions

(b) Within 18 months after the effective date of this AD, for both MLG, do a gap measurement of the upper and lower joint gaps (includes measuring and recording upper and lower joint gaps twice); and an ultrasonic inspection of the outer cylinder of the main landing gear for cracks between the downlock fitting attach lugs, per Part 1 of the service bulletin.

(c) If no crack is found during the inspection required by paragraph (b) of this AD, before further flight, do the restoration (includes installing shims as applicable, electrical bracket, and cotter pins; and marking the main landing gear) per the service bulletin.

(d) If any crack is found during the inspection required by paragraph (b) of this AD: Before further flight, overhaul the outer cylinder of the MLG or replace the outer cylinder of the MLG with an interchangeable outer cylinder per Part 2 of the service bulletin, except as provided by paragraph (e) of this AD.

(e) If any crack is found in the outer cylinder that cannot be removed within the repair limits specified in the service bulletin, during the overhaul specified in paragraph (d) of this AD, and the service bulletin specifies to contact Boeing for appropriate action: Before further flight, repair per a method approved by the Manager, Seattle Aircraft Certification Office (ACO), FAA; or per data meeting the type certification basis of the airplane approved by a Boeing Company Designated Engineering Representative who has been authorized by the Manager, Seattle ACO, to make such findings. For a repair method to be approved, the approval must specifically reference this AD.

Note 1: When the outer cylinder is re-installed, attach the downlock fittings onto the outer cylinder as specified in the applicable Boeing Component Maintenance Manual (CMM), document number 161T1000, Section 32-11-19, temporary revision (TR) 32-61, dated March 26, 2002 or Section 32-11-19 pages 712 through 716 dated July 01, 2002, or dated July 01, 2003; or CMM 32-11-20, TR 32-62, dated March 26, 2002, or Section 32-11-20 pages 718 through 722 dated July 01, 2002, or dated July 01, 2003.

Actions Accomplished Per Previous Issue of Service Bulletin

(f) Accomplishment of the applicable actions before the effective date of this AD per Boeing Service Bulletin 767-32A0196, dated August 1, 2002; or, Revision 1, dated September 26, 2002; are considered acceptable for compliance with the corresponding action specified in this AD.

Parts Installation

(g) As of the effective date of this AD, no person may install a MLG on any airplane, unless the outer cylinder of the MLG has been inspected and follow-on and corrective actions have been accomplished per Boeing Service Bulletin 767-32A0196, Revision 2, dated May 15, 2003.

Alternative Methods of Compliance

(h) In accordance with 14 CFR 39.19, the Manager, Seattle Aircraft Certification Office, FAA, is authorized to approve alternative methods of compliance for this AD.

Issued in Renton, Washington, on November 28, 2003.
Kevin Mullin,
Acting Manager, Transport Airplane Directorate, Aircraft Certification Service.

[FR Doc. 03-30220 Filed 12-4-03; 8:45 am]

BILLING CODE 4910-13-P